DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA), Commerce.

Title: Annual Survey of Foreign Direct Investment in the United States.

OMB Control Number: 0608-0034.

Form Number: BE-15.

Type of Request: Regular submission.

Estimated Number of Respondents: 5,700 annually, of which approximately 2,300 file A forms, 1,600 file B forms, 1,300 file C forms, and 500 file Claim for Exemption forms.

Estimated Total Annual Burden Hours: 112,350 hours. Total annual burden is calculated by multiplying the estimated number of submissions of each form by the average hourly burden per form, which is 44.75 hours for the A form, 3.75 hours for the B form, 2.25 hours for the C form, and 1 hour for the Claim for Exemption form.

Estimated Time per Respondent: 19.7 hours per respondent (112,350 hours/5,700 respondents) is the average, but may vary considerably among respondents because of differences in company size and complexity.

Needs and Uses: The Annual Survey of Foreign Direct Investment in the United States (BE-15) obtains sample data on the financial structure and operations of foreign-owned U.S. business enterprises. The data are needed to provide reliable, useful, and timely measures of foreign direct investment in the United States to assess its impact on the U.S. economy. The sample data are used to derive universe estimates in nonbenchmark years from similar data reported in the BE-12, Benchmark Survey of Foreign Direct Investment in the United States, which is conducted every five years. The data collected include balance sheets; income statements; property, plant, and equipment; employment and employee compensation; merchandise trade; sales of goods and services; taxes; and research and development activity for the U.S. operations. In addition to these national data, several data items are collected by state, including employment and property, plant, and equipment.

Affected Public: Businesses or other for-profit organizations.

Frequency: Annual.

Respondent's Obligation: Mandatory.

This information collection request may be viewed at www.reginfo.gov. Follow the instructions to view Department of Commerce collections currently under review by OMB.

Written comments and recommendations for the proposed information collection should be sent within 30 days of publication of this notice to OIRA Submission@omb.eop.gov or fax to (202) 395-5806.

Sheleen Dumas,
Departmental Lead PRA Officer, Office of Chief Information Officer.

[FR Doc. 2018-16411 Filed 7-31-18; 8:45 am]

BILLING CODE 3510-06-P